DEPARTMENT OF DEFENSE

Department of the Navy

[Docket ID USN-2010-0018]

Privacy Act of 1974; System of Records

AGENCY: U.S. Marine Corps, Department of the Navy, DoD.

ACTION: Notice to add a system of records.

SUMMARY: The U.S. Marine Corps proposes to add a system of records to its inventory of record systems to the Privacy Act of 1974, (5 U.S.C. 552a), as amended.

DATES: This proposed action will be effective without further notice on June 7, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from Headquarters, U.S. Marine Corps, FOIA/PA Section (ARSF), 2 Navy Annex, Room 3134, Washington, DC 20380-1775.

The proposed system report, as required by 5 U.S.C. 552a (r), of the Privacy Act of 1974, as amended, was submitted on April 26, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: May 3, 2010.
Mitchell S. Bryman,
Alternate OSD Federal Register Liaison Officer, Department of Defense.

NM05512-2

SYSTEM NAME:

Badge and Access Control System Records

SYSTEM LOCATION:

All organization elements of the Department of the Navy. Official mailing addresses are published in the Standard Navy Distribution List that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

CATEGORIES OF INDIVIDUALS COVERED BY THE SYSTEM:

Individuals considered or seeking consideration for access to space under the control of the Department of the Navy/combatant command and any visitor (military, civilian, or contractor) requiring access to a controlled facility.

CATEGORIES OF RECORDS IN THE SYSTEM:

Name, Social Security Number (SSN); case number; visit requests for permission to transact commercial business; visitor clearance data for individuals to visit a Navy/Marine Corps base/activity/contractor facility; barring lists and letters of exclusion; badge/pass issuance records; information that reflects time of entry/exit from facility, and bio-metric data (iris scan, face and fingerprints).

AUTHORITY FOR MAINTENANCE OF THE SYSTEM:

10 U.S.C. 5013, Secretary of the Navy; 10 U.S.C. 5041, Headquarters, Marine Corps; OPNAVINST 5530.14C, Navy Physical Security; Marine Corps Order P5530.14, Marine Corps Physical Security Program Manual; and E.O. 9397 (SSN), as amended.

PURPOSE(S):

To control physical access to DoD, Department of the Navy (DON) or U.S. Marine Corps Installations/Units controlled information, installations, facilities, or areas over which DoD, DON or USMC has security responsibilities by identifying or verifying an individual through the use of biometric databases and associated data processing/information services for designated populations for purposes of protecting U.S./Coalition/allied government/national security areas of responsibility and information; to issue badges, replace lost badges and retrieve passes upon separation; to maintain visitor statistics; collect information to adjudicate access to facility; and track the entry/exit times of personnel.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To designated contractors, Federal agencies, and foreign governments for the purpose of granting Navy officials access to their facility.

The DoD ‘Blanket Routine Uses’ that appear at the beginning of the Navy's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Name, Social Security Number (SSN), biometric template, (fingerprints, face and iris scan), case number, company's name or other unique identifiers.

SAFEGUARDS:

Access is provided on a need-to-know basis only. Manual records are maintained in file cabinets under the control of authorized personnel during working hours. The office space in which the file cabinets are located is locked outside of official working hours. Computer terminals are located in supervised areas. Access is controlled by password or other user code system.

Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know. Access is restricted only by authorized persons who are properly screened. These systems are password and/or Systems Software uses Primary Key Infrastructure (PKI)/Common Access Card (CAC) protected.

RETENTION AND DISPOSAL:

Badges and passes are destroyed three months after return to issuing office. Records of issuance are destroyed six months after new accountability system is established or one year after final disposition of each issuance record is entered in retention log or similar record, whichever is earlier. Visit request records are destroyed two years after final entry or two years after date of document, whichever is later.

SYSTEM MANAGER(S) AND ADDRESS:

Navy Policy Official: Program Manager, Commander, Navy Installations Command, 716 Sicard Street, SE., Suite 1000, Washington Navy Yard, DC 20374-5140.

Marine Corps Policy Official: Program Manager, Physical Security/Electronic Security Systems, Mission Assurance Branch, Security Division, Plans, Policies and Operations (PP&O), Headquarters, U.S. Marine Corps, 3000 Pentagon Room 4A324, Washington, DC 20350-3000.

Record Holders: Commanding officers of the U.S. Navy activity in question and/or local Provost Marshal's Office at U.S. Marine Corps installations/units. Official mailing addresses are published in the Standard Navy Distribution List that is available at http://doni.daps.dla.mil/sndl.aspx.

NOTIFICATION PROCEDURE:

Individuals seeking to determine whether information about themselves is contained in this system should address written inquiries to the Commanding officer of the activity in question. Official mailing addresses are published in the Standard Navy Distribution List that is available at http://doni.daps.dla.mil/sndl.aspx.

For verification purposes, individual should provide full name, Social Security Number (SSN), sufficient details to permit locating pertinent records and notarized signature. Failure to provide a notarized document may result in your request not being processed.

RECORD ACCESS PROCEDURES:

Individuals seeking access to records about themselves contained in this system should address written inquiries to the Commanding officer of the U.S. Navy activity in question or the local Provost Marshal's Office at U.S. Marine Corps installations/units. Official mailing addresses are published in the Standard Navy Distribution List that is available at http://doni.daps.dla.mil/sndl.aspx.

For verification purposes, individual should provide full name, Social Security Number (SSN), sufficient details to permit locating pertinent records and notarized signature. Failure to provide a notarized document may result in your request not being processed.

CONTESTING RECORD PROCEDURES:

The Navy's rules for accessing records, and for contesting contents and appealing initial agency determinations are published in Secretary of the Navy Instruction 5211.5; 32 CFR part 701; or may be obtained from the system manager.

RECORD SOURCE CATEGORIES:

Individuals, Department of Defense, Department of Army, Department of the Air Force, Department of Navy, and U.S. Marine Corps security offices, system managers, computer facility managers, commercial businesses whose employees require access to the bases, visit requests, automated interfaces for user codes on file at Department of Defense sites.

EXEMPTIONS CLAIMED FOR THE SYSTEM:

None.

[FR Doc. 2010-10673 Filed 5-5-10; 8:45 am]

BILLING CODE 5001-06-P